DEPARTMENT OF COMMERCE

International Trade Administration

[A-533-809]

Certain Forged Stainless Steel Flanges From India; Notice of Final Results of Antidumping Duty New Shipper Review

AGENCY: Import Administration, International Trade Administration, Department of Commerce.

SUMMARY: On July 31, 2007, the Department of Commerce (the Department) published the preliminary results of the new shipper administrative review in the antidumping duty order covering certain forged stainless steel flanges from India. See Certain Forged Stainless Steel Flanges From India: Preliminary Results of Antidumping Duty New Shipper Administrative Review, 72 FR 41706 (July 31, 2007) (Preliminary Results). The merchandise covered by this review is certain forged stainless steel flanges, manufactured by Micro Forge (India) (Micro Forge), as described in the “Scope of the Order” section of this notice. The period of review (POR) is February 1, 2006 through July 31, 2006. We invited parties to comment on our Preliminary Results. We received no comments. Therefore, the final results are unchanged from those presented in the preliminary results. The final weighted-average dumping margin for Micro Forge is listed below in the section entitled “Final Results of the Review.”

EFFECTIVE DATE: October 16, 2007.

FOR FURTHER INFORMATION CONTACT: Michael J. Heaney, or Robert James, AD/CVD Operations, Office 7, Import Administration, International Trade Administration, U.S. Department of Commerce, 14th Street and Constitution Avenue, NW, Washington, DC 20230; telephone: (202) 482-4475 or (202) 482-0649, respectively.

SUPPLEMENTARY INFORMATION:

Background

On July 31, 2007, the Department published the preliminary results of the antidumping duty new shipper administrative review of certain forged stainless steel flanges from India. See Preliminary Results. The review covers Micro Forge, and the POR is February 1, 2006, through July 31, 2006. In the Preliminary Results, we assigned Micro Forge a margin based on adverse facts available. We invited parties to comment. We received no comments.

Scope of the Order

The products covered by this order are certain forged stainless steel flanges, both finished and not finished, generally manufactured to specification ASTM A-182, and made in alloys such as 304, 304L, 316, and 316L. The scope includes five general types of flanges. They are weld-neck, used for butt-weld line connection; threaded, used for threaded line connections; slip-on and lap joint, used with stub-ends/butt-weld line connections; socket weld, used to fit pipe into a machined recession; and blind, used to seal off a line. The sizes of the flanges within the scope range generally from one to six inches; however, all sizes of the above-described merchandise are included in the scope. Specifically excluded from the scope of this order are cast stainless steel flanges. Cast stainless steel flanges generally are manufactured to specification ASTM A-351. The flanges subject to this order are currently classifiable under subheadings 7307.21.10.00 and 7307.21.50.00 of the Harmonized Tariff Schedule of the United States (HTSUS). Although the HTSUS subheading is provided for convenience and customs purposes, the written description of the merchandise under review is dispositive of whether or not the merchandise is covered by the scope of the order.

Final Results of the Review

We determine the following percentage weighted-average margin exists for the period February 1, 2006, through July 31, 2006:

Manufacturer / Exporter | Weighted Average Margin (percentage)
Micro Forge | 210.00

Liquidation

The Department shall determine, and U.S. Customs and Border Protection (CBP) shall assess, antidumping duties on all appropriate entries. In this review, the Department is applying an adverse facts available rate of 210.00 percent to Micro Forge's U.S. sales. The Department intends to issue assessment instructions to CBP 15 days after the date of publication of these final results of review. We will direct CBP to assess the appropriate assessment rate (210 percent) against the entered Customs values for the subject merchandise on each of Micro Forge's entries under the relevant order during the POR.

Cash Deposit Requirements

The following cash deposit requirements will be effective upon publication of the final results of this administrative review for all shipments of the subject merchandise entered, or withdrawn from warehouse, for consumption on or after the date of publication, as provided by section 751(a)(1) of the Tariff Act of 1930, as amended (the Tariff Act): (1) for the company named above, the cash deposit rates will be the rate shown; (2) for previously reviewed or investigated companies not listed above, the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) the cash deposit rate for all other manufacturers or exporters will continue to be 162.14 percent. This rate is the “All Others” rate from the amended final determination in the LTFV investigation. See Amended Final Determination and Antidumping Duty Order; Certain Forged Stainless Steel Flanges From India, 59 FR 5994 (February 9, 1994). These cash deposit requirements shall remain in effect until further notice.

This notice also serves as a final reminder to importers of their responsibility under 19 CFR 351.402(f)(2) to file a certificate regarding the reimbursement of antidumping or countervailing duties prior to liquidation of the relevant entries during this review period. Failure to comply with this requirement could result in the Secretary's presumption that reimbursement of antidumping or countervailing duties occurred and the subsequent assessment of doubled antidumping duties.

This notice also serves as a reminder to parties subject to administrative protective orders (APO) of their responsibility concerning the return or destruction of proprietary information disclosed under APO in accordance with 19 CFR 351.305. Timely written notification of the return or destruction of APO materials or conversion to judicial protective order is hereby requested. Failure to comply with the regulations and terms of an APO is a violation which is subject to sanction.

We are issuing and publishing this notice in accordance with sections 751(a)(1) and 777(i)(1) of the Tariff Act and 19 CFR 351.221(b)(5).

Dated: October 9, 2007.
David M. Spooner,
Assistant Secretary for Import Administration.

[FR Doc. E7-20347 Filed 10-15-07; 8:45 am]

BILLING CODE 3510-DS-S